DEPARTMENT OF ENERGY

Bonneville Power Administration

Raymond-Cosmopolis Transmission Line Rebuild Project

AGENCY: Bonneville Power Administration (BPA), Department of Energy (DOE).

ACTION: Notice of floodplain and wetlands involvement.

SUMMARY: This notice announces BPA's proposal to rebuild the Raymond-Cosmopolis 115-kilovolt transmission line in western Washington State. The proposed rebuild is needed to increase transmission line capacity and to address safety and reliability concerns because the transmission line is old, physically worn, and structurally unsound in some areas. The 18.3-mile-long transmission line traverses wetlands and floodplains located in both Pacific and Grays Harbor Counties.

DATES: Comments are due to the address below no later than January 29, 2003.

ADDRESSES: Submit comments to Communications, Bonneville Power Administration—KC-7, P.O. Box 12999, Portland, Oregon 97212. Internet address: comment@bpa.gov.

FOR FURTHER INFORMATION, CONTACT: Kimberly St.Hilaire—KEC-4, Bonneville Power Administration, P.O. Box 3621, Portland, Oregon, 97208-3621, phone number 503-230-5361, fax number 503-230-5699.

SUPPLEMENTARY INFORMATION: In accordance with DOE regulations for compliance with floodplain and wetlands environmental review requirements, BPA will prepare a floodplain and wetlands assessment and will perform this proposed action in a manner so as to avoid or minimize potential harm to or within the affected floodplain and wetlands. The assessment will be included in the environmental assessment being prepared for the proposed project in accordance with the requirements of the National Environmental Policy Act. A floodplain statement of findings will be included in any finding of no significant impact that may be issued following the completion of the environmental assessment.

Floodplains. Six existing structures are located within the 100-year floodplains of three waterways within the project area, as depicted on Federal Emergency Management Administration (FEMA) maps. Impacts to floodplains would include the removal of existing structures and construction of proposed structures within floodplains, road construction, and road improvements. During the design phase, efforts were made to avoid impacts to floodplains and to minimize them by moving structures and roads out of floodplains where possible.

Two structures are located within the floodplain of Lower Salmon Creek. These existing structures would be removed without excavation (cut at ground level) and replaced within the floodplain. The holes that would be augered to imbed the tubular steel structures would be several feet larger in diameter than the base of the structure, which would be less than 70 inches in diameter. No road construction or road improvements are proposed with the Lower Salmon Creek floodplain.

Within the North River floodplain, one existing structure is on the floodplain boundary and one area of roadwork is proposed within the floodplain. Structure 121, on the floodplain boundary, would be moved 10 feet, placing it just outside the floodplain. Road improvements would be made within the southern portion of the floodplain (north of Structure 120). Roadwork would extend up a slope at the edge of the floodplain. The area where roadwork would be done is separated from the main floodplain area by a county road (North River Road). Road improvements would include rocking and widening approximately 250 feet of the existing road, and also installing a culvert and gate at the edge of the existing county road.

Within the Little North River floodplain, three existing structures are located within the floodplain or on the floodplain boundary and one area of roadwork is proposed. Structure 136, adjacent to an existing access road, would be removed and the proposed structure would be constructed at the edge of the floodplain boundary. Roadwork is proposed just south of Structure 136. Roadwork would consist of improvements to the existing road to provide improved access to this structure. The road would be rocked and widened. Structure 142 is within the floodplain and would be replaced within the floodplain within several feet of the existing structure. Structure 143 is at the edge of the floodplain on FEMA maps, but because it is approximately 100 feet in elevation higher than the elevation of the Little North River, it is very unlikely that it would be inundated during a 100-year flood event. This structure will be moved to the north, placing it outside but very near the floodplain boundary.

Wetlands. Wetlands determination and delineation work was conducted within the project area in August of 2002. This investigation identified numerous wetland areas within or crossing the transmission line right-of-way. Nine existing structures are within wetlands, but only two of the proposed structures would be in wetlands. Other existing and proposed structures are near wetlands, but direct impacts to wetlands would be avoided where possible by restricting access to these areas during construction.

During the design phase, the transmission line was realigned outside the existing right-of-ways in two areas to avoid wetlands. Structures 34 and 35 would be moved to the west to avoid a large wetland area around Structure 35. Structures 91, 92, 93, and 94 would be moved to the west because existing Structures 92 and 93 are within the wetlands associated with Joe Creek and no access exists to these structures.

During the design phase of the project, impacts to wetlands were avoided where possible, by relocating individual structures and roads in adjacent uplands within the existing right-of-way. In some areas it was not possible to relocate structures into adjacent uplands because the wetlands are too extensive to avoid them. In other areas, roads or approaches would traverse wetlands because there is no other route that avoids wetlands. Where wetlands could not be avoided by roads, efforts were made to minimize the impacts to wetlands by locating as much of the road as possible in adjacent upland or by proposing to construct temporary roads.

The impact on wetlands from removing nine existing structures would be low. Removal of existing structures could cause minor and temporary damage to wetland vegetation and soils. Structures in wetlands would be cut at the base with no soil disturbance and lifted or dragged out of the wetland area. Some structures would be left in place if landowners agree.

Impacts on wetlands from installing new structures in wetlands are expected to be moderate and mostly temporary. Proposed Structures 28 and 72 would be erected in wetlands; both would be suspension structures, the type of structures that require the smallest disturbance area. Permanent disturbance of wetlands would be limited to the portions of wetlands that are excavated or filled to embed the structure base.

Impacts to wetlands from constructing access roads are limited to a few areas where there are no alternatives because there are no uplands adjacent to the structures. Approaches (short spur roads) within wetlands would be constructed to access Structures 28 and 72. Between Structures 15 and 16, a stream and associated wetland area would be crossed by creating a ford (rocky area). Structures 47 and 48 can only be accessed by traversing a large emergent wetland. Impacts to wetlands would be minimized by creating a temporary access road on geotextile fabric, and then removed and restored once construction is complete.

Construction of structures and roads near wetlands could temporarily disturb wetland areas, with the size of disturbance area dependent on the type of structure. Efforts would be made to avoid construction activities within wetlands and to minimize impacts by restricting work while wetland soils are not dry.

Maps and further information are available from BPA at the address above.

Issued in Portland, Oregon, on January 6, 2003.
Thomas C. McKinney,
NEPA Compliance Officer.

[FR Doc. 03-682 Filed 1-13-03; 8:45 am]

BILLING CODE 6450-01-P